DEPARTMENT OF ENERGY

National Coal Council

AGENCY: Department of Energy.

ACTION: Notice of open meetings.

SUMMARY: This notice announces a meeting of the National Coal Council (NCC). The Federal Advisory Committee Act requires that public notice of these meetings be announced in the Federal Register.

DATES: Wednesday, April 12, 2018, 8:30 a.m.-12:15 p.m.

ADDRESSES: Wink Hotel, 1143 New Hampshire Avenue NW, Washington, DC 20037

FOR FURTHER INFORMATION CONTACT: Joseph Giove, U.S. Department of Energy, E-136/Germantown Building, 1000 Independence Avenue SW, Washington, DC 20585-0001; Telephone: 301-903-4130.

SUPPLEMENTARY INFORMATION:

Purpose of the Council: The National Coal Council provides advice and recommendations to the Secretary of Energy on general policy matters relating to coal and the coal industry.

Purpose of Meeting: The 2018 Spring Meeting of the National Coal Council.

Tentative Agenda

1. Call to order and opening remarks by Steven Winberg, NCC Designated Federal Officer & Assistant Secretary for Fossil Energy, U.S. Department of Energy

2. Election of NCC Chair and Vice-chair

3. Keynote Remarks by Steven Winberg, Assistant Secretary for Fossil Energy, U.S. Department of Energy

4. Keynote Remarks by Anthony Ku, Director of Advanced Technologies, China's National Institute of Clean and Low-Carbon Energy (NICE)

5. Presentation by Randall Atkins, CEO, RAMACO Coal on Carbon from Coal

6. Presentation by Dan Connell, Director of Market Strategy & Business Development, CONSOL Energy Inc. on Opportunities for New Technology in Coal Mining and Beneficiation

7. Presentation by John Thompson, Director Fossil Transition Project, Clean Air Task Force on Enhancing the Success Rate of Technology Deployment: An Ecosystem Approach

8. Public Comment Period

9. Other Business

10. Adjourn

Attendees are requested to register in advance for the meeting at: http://www.nationalcoalcouncil.org/page-NCC-Events.html

Public Participation: The meeting is open to the public. If you would like to file a written statement with the Council, you may do so either before or after the meeting. If you would like to make oral statements regarding any item on the agenda, you should contact Joseph Giove, 301-903-4130 or joseph.giove@hq.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: A link to the transcript of the meeting will be posted on the NCC website at: http://www.nationalcoalcouncil.org/.

Issued at Washington, DC, on March 14, 2018.
LaTanya R. Butler,
Deputy Committee Management Officer.

[FR Doc. 2018-05602 Filed 3-19-18; 8:45 am]

BILLING CODE 6450-01-P